FEDERAL RETIREMENT THRIFT INVESTMENT BOARD

Sunshine Act Notice

Time and Date: 10 a.m.(EDT), August 23, 2004.

Place: 4th Floor Conference Room, 1250 H Street, NW., Washington, DC.

Status: Parts will be open to the public and parts closed to the public.

Matters to be Considered:

Parts Open to the Public

1. Approval of the minutes of the July 19, 2004, Board member meeting.

2. Thrift Savings Plan activity report by the Executive Director.

3. Review of KPMG audit report on Post-Implementation Review of the New Thrift Savings Plan Record Keeping System.

Parts Closed to the Public

4. Litigation.

5. Personnel matters.

Contact Person for More Information: Thomas J. Trabucco, Director, Office of External Affairs, (202) 942-1640.

Dated: August 11, 2004.
Thomas K. Emswiler,
Associate General Counsel, Federal Retirement Thrift Investment Board.

[FR Doc. 04-18680 Filed 8-11-04; 2:13 pm]

BILLING CODE 6760-01-P